DEPARTMENT OF THE INTERIOR

Bureau of Land Management

[BLM_NV_FRN_MO#4500177325]

Notice of Realty Action: Modified Competitive Sale of 7 Parcels of Public Land in Lincoln County and White Pine County, Nevada

AGENCY: Bureau of Land Management, Interior.

ACTION: Notice of realty action.

SUMMARY: The Bureau of Land Management (BLM) proposes to offer seven (7) parcels of public land totaling 571.53 acres in Lincoln County and White Pine County by modified competitive sale at no less than each parcel's Fair Market Value (FMV) pursuant to the Lincoln County Conservation, Recreation, and Development Act of 2004 (LCCRDA) and the White Pine County Conservation, Recreation, and Development Act of 2006 (WPCCRDA). The sale will be processed in conformance with applicable provisions of the Federal Land Policy and Management Act of 1976 (FLPMA) and BLM regulations.

DATES: The sale will take place on September 12, 2024, at 8:00 a.m., Pacific Time, on the EnergyNet website at: https://www.EnergyNet.com/govt_listing.pl. Submit written comments regarding the sale until August 26, 2024. The BLM will publish this Notice of Realty Action once a week for three consecutive weeks in the Lincoln County Record and Ely Times newspapers. Prior to the sale, a sales matrix will be published on the following website: https://www.EnergyNet.com/govt_listing.pl. The sales matrix provides information specific to each sale parcel such as legal description, physical location, encumbrances, acreage, and FMV. The FMV for each parcel will be available in the sales matrix at least 30 days prior to the sale.

The land would not be offered for sale before [INSERT DATE LESS THAN 60 DAYS PRIOR TO THE SALE].

ADDRESSES: Mail written comments to the BLM Ely District Office (EYDO), Special Legislation Program Manager, 702 North Industrial Way, Ely, NV 89301.

FOR FURTHER INFORMATION CONTACT: Melanie Peterson, Special Legislation Program Manager, Ely District Office, by email at m1peters@blm.gov, or by telephone at 775-289-1896. Information concerning the sale parcels, including encumbrances of record; appraisals; reservations; procedures and conditions; Comprehensive Environmental Response, Compensation and Liability Act, 42 U.S.C. 9620(h) (CERCLA) documents; and other environmental documents that may appear in the BLM public files for the sale parcels are available for review by appointment only during business hours from 8:00 a.m. to 4:00 p.m. Pacific Time, Monday through Friday, at the BLM EYDO, except during Federal holidays.

Individuals in the United States who are deaf, deafblind, hard of hearing, or have a speech disability may dial 711 (TTY, TDD, or TeleBraille) to access telecommunications relay services. Individuals outside the United States should use the relay services offered within their country to make international calls to the point-of-contact in the United States. You will receive a reply during normal business hours.

SUPPLEMENTARY INFORMATION: It is the buyer's responsibility to be aware of all applicable Federal, state, and local government laws, regulations, and policies that may affect the subject lands, including any required dedication of lands for public uses. It is the buyer's responsibility to be aware of existing or prospective uses of nearby properties. When conveyed out of Federal ownership, the lands will be subject to any applicable laws, regulations, and policies of the applicable local government for proposed future uses. It is the responsibility of the purchaser to be aware through due diligence of those laws, regulations, and policies and to seek any required local approvals for future uses. Buyers should make themselves aware of any Federal or state law or regulation that may impact the future use of the property. Any land lacking access from a public road or highway will be conveyed as such, and acquiring future access will be the responsibility of the buyer.

Of the seven (7) parcels of public lands that the BLM proposes to offer, four (4) are within the Lincoln County jurisdiction and three (3) are within the White Pine County jurisdiction. More specifically, of the four (4) parcels in Lincoln County, one (1) is in the community of Alamo, one (1) is in the community of Caliente, and two (2) are in the community of Panaca, and of the three (3) parcels in White Pine County, two (2) are in the community of Ely and one (1) is in the community of McGill.

The subject public lands for the proposed sale, which aggregate 571.53 acres, are legally described as:

Lincoln County Parcels

NVN-89336

Mount Diablo Meridian, Nevada

T. 6 S., R. 61 E.,

Sec. 29, lots 8 and 9 and S½SW¼NE¼SW¼.

The area described contains 10 acres, according to the official plat of the survey of the said land on file with the BLM.

NVN-92816

Mount Diablo Meridian, Nevada

T. 3 S., R. 67 E.,

Sec. 29, N½SE¼.

The area described contains 80 acres, according to the official plat of the survey of the said land on file with the BLM.

NVN-95800

Mount Diablo Meridian, Nevada

T. 2 S., R. 68 E.,

Sec. 9, SE¼SE¼NE¼.

The area described contains 10 acres, according to the official plat of the survey of the said land on file with the BLM.

NVN-95801

Mount Diablo Meridian, Nevada

T. 2 S., R. 68 E.,

Sec. 9, NE¼SE¼.

The area described contains 40 acres, according to the official plat of the survey of the said land on file with the BLM.

White Pine County Parcels

NVN-89337

Mount Diablo Meridian, Nevada

T. 17 N., R. 64 E.,

Sec. 7, E½SW¼ and SE¼.

The area described contains 240 acres, according to the official plat of the survey of the said lands on file with the BLM.

NVN-94524

Mount Diablo Meridian, Nevada

T. 17 N., R. 63 E.,

Sec. 22, W½SW¼.

The area described contains 80 acres, according to the official plat of the survey of the said land on file with the BLM.

NVN-94525

Mount Diablo Meridian, Nevada

T. 16 N., R. 63 E.,

Sec. 26, lots 6 and 8;

Sec. 35, lot 4, E½NW¼NW¼, E½SW¼NW¼, and SE¼NW¼.

The area described contains 111.53 acres, according to the official plat of the survey of the said land on file with the BLM.

These tracts of public land have been identified for disposal by the BLM in the Ely District Record of Decision and Approved Resource Management Plan (ROD/RMP), dated August 20, 2008, as referenced in the Lands and Realty objectives LR-8, page 66, LR-11, page 67, and Appendix B. Disposal of the parcels will be conducted consistent with Section 203 of FLPMA; Public Law 108-424, the Lincoln County Conservation, Recreation, and Development Act of 2004 (LCCRDA); and Public Law 109-432, the Tax Relief and Health Care Act of 2006, Title III—White Pine County Conservation, Recreation and County Conservation, Recreation and Development Act (WPCCRDA). These parcels are not required for any other Federal purposes, and their disposal would be in the public interest and meet the intent of the WPCCRDA.

The WPCCRDA (Pub. L. 109-432), section 311(h)(1), provides that Federal land described in subsection (a) of that Act is withdrawn from all forms of entry and appropriation under the public land laws and mining laws; all minerals will be retained by the Federal Government. A Mineral Potential Report was completed on June 7, 2013. A Finding of No Significant Impact and Decision Record, dated September 12, 2019, were completed in connection with this notice of realty action.

According to the LCCRDA (Pub. L. 108-424), section 102(g), lands identified within the Ely Resource Management Plan are withdrawn from location and entry under the mining laws and from operation under the mineral and geothermal leasing laws until such time as the Secretary of the Interior (Secretary) terminates the withdrawal or the lands are patented.

In accordance with the LCCRDA and WPCCRDA, 85 percent of the funds generated by this sale will be used for archaeological resources, natural resource protection, recreation and wilderness planning, and other opportunities in Lincoln and White Pine County respectively. Additionally, five percent of the revenue will go to the State of Nevada General Education Fund and 10 percent of the revenue will go to Lincoln or White Pine County respectively.

The following National Environmental Policy Act documents apply to this proposed land sale. Separate environmental assessments were prepared for the parcels in each county. The Lincoln County parcels are analyzed in DOI-BLM-NV-L030-2015-0027-EA (https://eplanning.blm.gov/eplanning-ui/project/56542/510) and DOI-BLM-NV-L030-2015-0026-EA (https://eplanning.blm.gov/eplanning-ui/project/72496/510). The White Pine County parcels are analyzed in DOI-BLM-NV-L060-2018-0002-EA (https://eplanning.blm.gov/eplanning-ui/project/104342/510).

Submit comments to the address in the ADDRESSES section. Before including your address, phone number, email address, or other personally identifiable information in your comment, you should be aware that your entire comment—including any personally identifiable information—may be made publicly available at any time. While you can ask us in your comment to withhold your personally identifiable information from public review, we cannot guarantee that we will be able to do so.

Any comments regarding the proposed sale will be reviewed by the BLM Ely District Office Manager, who may sustain, vacate, or modify this realty action in response to such comments. In the absence of timely adverse comments, this realty action will become the final determination of the Department of the Interior. The use of the modified competitive sale method is consistent with 43 CFR 2711.3-2. Public lands may be offered for sale by modified competitive bidding procedures when the authorized officer determines it is necessary based on public policies. Consistent with Executive Order 14008, Tackling the Climate Crisis at Home and Abroad, utilizing an online (internet-based) auction format would maximize the opportunity for public involvement while reducing greenhouse gas emissions that would result from bidders traveling to Ely. In addition, utilizing an online auction would encourage greater participation by qualified bidders.

The regulations at 43 CFR 2711.2 require that qualified conveyees (bidders) must be:

(1) A citizen of the United States 18 years of age or older;

(2) A corporation subject to the laws of any State or of the United States;

(3) A State, State instrumentality, or political subdivision authorized to hold property; or

(4) An entity legally capable of conveying and holding lands or interests therein under the laws of the State of Nevada.

The successful bidder must submit proof of citizenship or articles of incorporation within thirty (30) days from receipt of the acceptance of bid letter. Evidence of United States citizenship is a birth certificate, passport, or naturalization papers. Citizenship documents or articles of incorporation (as applicable) must be provided to the BLM EYDO for each sale.

The EnergyNet auction website is viewable by the public in real-time; however, you must register as a bidder with EnergyNet in advance to submit bids for a parcel during the auction. The online auction website will be active and available for use approximately ten (10) days after the date of this notice and will remain available for viewing until the completion of the auction. The available parcels in this notice will be listed in detail on the EnergyNet website. Interested parties may visit the website at any time.

Potential bidders are encouraged to visit the EnergyNet website at least ten (10) business days prior to the start of the open bidding period to review the bidding instructions available at https://www.energynet.com/page/Government_Listings_Participation. Supporting documentation is available on the EnergyNet website to familiarize users to the bidding process and answer frequently asked questions.

Potential bidders may register for the online auction as soon as the auction website is active. To participate in the BLM bidding process, you must register with EnergyNet and obtain a bidder number. Registration for online bidding will be available prior to the sale date on the EnergyNet website at https://www.EnergyNet.com/govt_listing.pl. Click on the orange “Register for Sale” button on the blue “Ely District 2024 Land Sale” banner to register. Then click on the light blue “View Listings” button on the “Ely District 2024 Land Sale” banner to obtain maps and get information on how to submit online bids via the internet for the sale. A submitted online internet bid is a binding offer to purchase.

To participate in this sale, prospective buyers must create an EnergyNet account, complete the EnergyNet Bidding Terms Agreement, request a bid allowance, and register for the Ely District 2024 Land Sale. EnergyNet may require approximately five (5) business days to determine the bidder's financial qualifications. Additional information on how to register with EnergyNet may be found at https://www.energynet.com/page/Government_Listings_Participation.

Assistance with creating an EnergyNet account and registering for the sale is available by contacting the EnergyNet Government Resources Department at 877-351-4488. Use the following link to create a Buyer's Account: https://www.EnergyNet.com/bidder_reg.pl?registration_choice=government. After the account is created, follow the link “Submit Bank Information Online” and fill in the form with the following information:

• Bank name;

• Banker's name;

• Telephone number of banker;

• Address of bank;

• Requested bid allowance amount.

EnergyNet will verify that the bank is an accredited financial institution and contact the bank to ensure the prospective buyer has the financial means to cover the requested bid allowance. The bidder must contact its banker and grant permission for the banker to speak with EnergyNet about the bidder's bid allowance request. EnergyNet will not request the bidder's account balance nor ask any questions about assets or other lines of credit. EnergyNet will not request the bank account number, nor whether it can withdraw funds.

Payments to the BLM will not be made through EnergyNet. At the conclusion of the bidding period for the final parcel, the bidder with the highest accepted bid during the open auction period (winning bidder) for each parcel will be provided instructions via email by the online auction system on how to make the required payment to the BLM.

In addition, you will be required to pay a service fee to EnergyNet's broker of 1.5 percent of the highest qualifying bid for each parcel purchased by the successful bidder. EnergyNet will submit one invoice via email to each successful bidder for the total amount due to the BLM and a separate invoice for the amount due to EnergyNet's broker.

Bidding will begin at the established FMV of each parcel. Each parcel will have its own unique open bidding period, with start and stop times clearly identified on the auction website. The open bidding period for each parcel will run for 24 hours from start to finish, and only bids placed during this 24-hour period will be accepted. Bidding will close sequentially so that each bidder will know if it is the highest winning bid before subsequent parcels close. The website will display each current high bid, and the high bidder's number.

The online system allows participants to submit maximum bids, which is the highest amount a bidder is willing to pay for each parcel, to enable a bidder to participate in the online auction without having to be logged into the website at the time the auction period closes. The auction website provides a full explanation of placing maximum bids, as well as an explanation of how it works to place bids on your behalf to maintain your high bidder status up to the chosen maximum bid amount. The BLM strongly encourages potential bidders to review the bidding tutorial in the Frequently Asked Questions area on the auction website in advance of the sale. EnergyNet will declare the highest qualifying bid as the high bid. The successful bidder must submit a deposit of no less than 20 percent of the successful bid amount by 4:00 p.m., Pacific Time, immediately following the close of the sale in the form of a certified check, postal money order, electronic fund transfer, bank draft, or cashier's check made payable in U.S. dollars to the “Department of the Interior, Bureau of Land Management.”

The BLM will send the successful bidder(s) an acceptance of bid letter with detailed information for making payment in full. In accordance with 43 CFR 2711.3-1(d), the successful bidder will forfeit the bid deposit if it fails to pay the full purchase price within 180 days of the sale. The BLM will make no exceptions. The BLM cannot accept the remainder of the bid price at any time following the 180th day after the sale.

If a bidder is the apparent successful bidder with respect to multiple parcels and that bidder fails to submit the minimum 20 percent bid deposit resulting in default on any single parcel following the sale, the BLM may cancel the sale of all parcels to that bidder. If a successful bidder cannot consummate the transaction for any reason, the BLM may consider the second highest bidder to purchase the parcel. If there are no acceptable bids, a parcel may remain available for sale on a future date without further legal notice.

The BLM EYDO must receive requests for escrow instructions a minimum of 30 business days prior to the prospective patentee's scheduled closing date. There are no exceptions.

All name changes and supporting documentation must be received at the BLM EYDO by 4:00 p.m. Pacific Time, 30 days from the date on the acceptance of bid letter. There are no exceptions. To submit a name change, the apparent successful bidder must submit the name change in writing on the Certificate of Eligibility form to the BLM EYDO.

The BLM must receive the remainder of the full bid price for the parcel no later than 4:00 p.m. Pacific Time, within 180 days following the day of the sale. The successful bidder must submit payment in the form of a certified check, postal money order, bank draft, cashier's check, or make available by electronic fund transfer payable in U.S. dollars to the “Department of the Interior—Bureau of Land Management” to the BLM EYDO. The BLM will not accept personal checks or other non-certified funds.

Arrangements for electronic fund transfer to the BLM for payment of the balance due must be made a minimum of two weeks prior to the payment date. The BLM will not sign any documents related to 1031 Exchange transactions. The bidder is responsible for timing for completion of such an exchange. The BLM cannot be a party to any 1031 Exchange.

In accordance with 43 CFR 2711.3-1(f), the BLM may accept or reject any or all offers to purchase or withdraw any parcel of land or interest therein from sale within 30 days, if the BLM authorized officer determines consummation of the sale would be inconsistent with any law, or for other reasons as may be provided by applicable law or regulations. No contractual or other rights against the United States may accrue until the BLM officially accepts the offer to purchase and the full bid price is paid.

Upon publication of this notice in the Federal Register, the described land will also be segregated from all forms of appropriation under the public land laws, including the mining laws, except for the sale provisions of the FLPMA. Upon publication of this notice and until completion of this sale, the BLM will no longer accept land use applications affecting the parcels identified for sale. The parcels may be subject to land use applications received prior to publication of this notice if processing the application would have no adverse effect on the marketability of title or the FMV of the parcels. The segregative effect of this notice terminates upon issuance of a patent or other document of conveyance to such lands, or publication in the Federal Register of a termination of the segregation. The total segregation period may not exceed two years unless it is extended by the BLM Nevada State Director prior to the termination date in accordance with 43 CFR 2711.1-2(d).

Terms and Conditions: FLPMA Section 209, 43 U.S.C. 1719(a), states that “all conveyances of title issued by the Secretary . . . shall reserve to the United States all minerals in the lands.” The patents, when issued, will contain a mineral reservation to the United States for all minerals.

In response to requests to clarify this mineral reservation as it relates to mineral materials, such as sand and gravel, we refer interested parties to the regulations at 43 CFR 3601.71(b), which provides that the owner of the surface estate of lands with reserved Federal minerals may “use a minimal amount of mineral materials” for “personal use” within the boundaries of the surface estate without a sales contract or permit. The regulation provides that all other use, absent statutory or other express authority, requires a sales contract or permit. The BLM refers interested parties to the explanation of this regulatory language in the preamble to the final rule published in the Federal Register in 2001, available at https://www.federalregister.gov/d/01-29001, which states that minimal use “would not include large-scale use of mineral materials, even within the boundaries of the surface estate” (66 FR 58894). Further explanation is contained in the BLM Instruction Memorandum No. 2014-085 (April 23, 2014), available on the BLM's website at https://www.blm.gov/policy/im-2014-085.

The following numbered terms and conditions will appear on the conveyance documents for the sale parcels:

(1) All mineral deposits in the lands so patented, and to it, or persons authorized by it, the right to prospect for, mine, and remove such deposits from the same under applicable law and regulations to be established by the Secretary are reserved to the United States, together with all necessary access and exit rights.

(2) A right-of-way is reserved for ditches and canals constructed by authority of the United States under the Act of August 30, 1890 (43 U.S.C. 945).

(3) The parcels are subject to valid existing rights.

(4) The parcels are subject to reservations for roads, public utilities, and flood control purposes, both existing and proposed, in accordance with the local governing entities' transportation plans.

(5) An appropriate indemnification clause protecting the United States from claims arising out of the patentee's use, occupancy, or occupations on the patented lands.

To the extent required by law, the parcels are subject to the requirements of Section 120(h) of the CERCLA, as amended. Accordingly, notice is hereby given that the lands have been examined and no evidence was found to indicate that any hazardous substances have been stored for one year or more, nor that any hazardous substances have been disposed of or released on the subject properties.

No warranty of any kind, express or implied, is given by the United States as to the title, whether or to what extent the land may be developed, its physical condition, future uses, or any other circumstance or condition. The conveyance of the parcels will not be on a contingency basis.

Authority: 43 CFR 2711.3-2.

Robbie McAboy,
District Manager, Ely District Office.

[FR Doc. 2024-15286 Filed 7-11-24; 8:45 am]

BILLING CODE 4331-21-P